DEPARTMENT OF TRANSPORTATION

Federal Aviation Administration

Membership in the National Parks Overflights Advisory Group

AGENCY: Federal Aviation Administration, Transportation

ACTION: Notice.

SUMMARY: By Federal Register notice on April 20, 2018 the National Park Service (NPS) and the Federal Aviation Administration (FAA) invited interested persons to apply to fill two openings on the National Parks Overflights Advisory Group (NPOAG) to represent air tour operator concerns and Native American interests. This notice informs the public of the selection made for the vacancy representing air tour operators and invites persons interested in serving on the NPOAG to apply for current and future openings representing Native American concerns, and future openings representing general aviation, and air tour operator interests.

DATES: Persons interested in applying for the NPOAG openings representing air tour operator and Native American interests need to apply by September 14, 2018.

FOR FURTHER INFORMATION CONTACT: Keith Lusk, Special Programs Staff, Federal Aviation Administration, Western-Pacific Region Headquarters, 727 S Aviation Boulevard, Suite #150, El Segundo, CA 90245, telephone: (424) 405-7017, email: Keith.Lusk@faa.gov.

SUPPLEMENTARY INFORMATION:

Background

The National Parks Air Tour Management Act of 2000 (the Act) was enacted on April 5, 2000, as Public Law 106-181, and subsequently amended in the FAA Modernization and Reform Act of 2012. The Act required the establishment of the advisory group within one year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating one-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG is made up of one member representing general aviation, three members representing the commercial air tour industry, four members representing environmental concerns, and two members representing Native American interests. Members serve 3-year terms. Current members of the NPOAG are as follows:

Melissa Rudinger representing general aviation; Alan Stephen and Matt Zuccaro representing commercial air tour operators with one open seat; Les Blomberg, Rob Smith, John Eastman, and Dick Hingson representing environmental interests; and Martin Begaye representing Native American tribes with one open seat.

Selection

Eric Lincoln has been selected to represent commercial air tour operators. No selection was made for the opening to represent Native American interests. In addition, three more seats are expiring in October/November 2018. The upcoming openings are one each to represent Native American concerns, general aviation, and air tour operator interests.

The FAA and NPS invite persons interested in applying for the four openings on the NPOAG to contact Mr. Keith Lusk (contact information is written above in FOR FURTHER INFORMATION CONTACT). Requests to serve on the NPOAG must be made to Mr. Lusk in writing and postmarked or emailed on or before September 14, 2018. The request should indicate whether or not you are a member of an association or group related to air tour operator, general aviation, or Native American concerns or have another affiliation with issues relating to aircraft flights over national parks. The request should also state what expertise you would bring to the NPOAG as related to issues and concerns with aircraft flights over national parks. The term of service for NPOAG members is 3 years. Current members may re-apply for another term.

On August 13, 2014, the Office of Management and Budget issued revised guidance regarding the prohibition against appointing or not reappointing federally registered lobbyists to serve on advisory committees (79 FR 47482).

Therefore, before appointing an applicant to serve on the NPOAG, the FAA and NPS will require the prospective candidate to certify that they are not a federally registered lobbyist.

Issued in Hawthorne, CA, on July 23, 2018.
Keith Lusk,
Program Manager, Special Programs Staff, Western-Pacific Region.

[FR Doc. 2018-16253 Filed 7-30-18; 8:45 am]

BILLING CODE 4910-13-P